DEPARTMENT OF TRANSPORTATION

Federal Aviation Administration

Notice of Opportunity for Public Comment on Surplus Property Release at Greenville SCTAC Airport, Greenville, South Carolina

AGENCY: Federal Aviation Administration (FAA), DOT.

ACTION: Notice.

SUMMARY: Notice is being given that the Federal Aviation Administration (FAA) is considering a request from the City and County of Greenville to waive the requirement that one parcel (350.285 acres) of surplus property, located at the Greenville SCTAC Airport be used for aeronautical purposes. Currently, ownership of the property provides for protection of FAR Part 77 surfaces and compatible land use.

DATES: Comments must be received on or before November 6, 2017.

ADDRESSES: Documents are available for review by prior appointment at the following location: Atlanta Airports District Office, Attn: Anna Lynch, Program Manager, 1701 Columbia Ave., Room 220, College Park, Georgia 30337-2747, Telephone: (404) 305-6746.

Comments on this notice may be mailed or delivered in triplicate to the FAA at the following address: Atlanta Airports District Office, Attn: Anna Lynch, Program Manager, 1701 Columbia Ave., Room 220, College Park, Georgia 30337-2747.

In addition, one copy of any comments submitted to the FAA must be mailed or delivered to Danny Moyd, Director of Properties, SCTAC at the following address: South Carolina Technology & Aviation Center SCTAC, 2 Exchange Street, Greenville, South Carolina 29605.

FOR FURTHER INFORMATION CONTACT: Anna Lynch, Program Manager, Atlanta Airports District Office, 1701 Columbia Ave., Room 220, College Park, Georgia 30337-2747, (404) 305-6746. The application may be reviewed in person at this same location.

SUPPLEMENTARY INFORMATION: The FAA is reviewing a request by the City and County of Greenville to release one parcel of surplus property (350.285 acres) at the Greenville SCTAC Airport. The parcel was originally conveyed to the City and County of Greenville on January 1964 under the powers and authority contained in the provisions of the Surplus Property Act of 1944. The City and County of Greenville will retain ownership of this parcel while establishing a land lease for any non aeronautical development.

Any person may inspect the request in person at the FAA office listed above under FOR FURTHER INFORMATION CONTACT.

In addition, any person may, upon request, inspect the request, notice and other documents germane to the request in person at the Greenville SCTAC Airport.

Issued in Atlanta, Georgia, on September 20, 2017.
Larry F. Clark,
Manager, Atlanta Airports District Office, Southern Region.

[FR Doc. 2017-21501 Filed 10-4-17; 8:45 am]

BILLING CODE 4910-13-P